INTERNATIONAL TRADE COMMISSION

[USITC SE-11-024]

Government In the Sunshine Act Meeting Notice

AGENCY HOLDING THE MEETING: United States International Trade Commission.

TIME AND DATE: September 9, 2011 at 11 a.m.

PLACE: Room 101, 500 E Street, SW., Washington, DC 20436, Telephone: (202) 205-2000.

STATUS: Open to the public.

Matters To Be Considered

1. Agendas for future meetings: none.

2. Minutes.

3. Ratification List.

4. Vote in Inv. Nos. 731-TA-847 and 849 (Second Review) (Carbon and Alloy Seamless Standard, Line, and Pressure Pipe from Japan and Romania). The Commission is currently scheduled to transmit its determinations and Commissioners' opinions to the Secretary of Commerce on or before September 21, 2011.)

5. Outstanding action jackets: none.

In accordance with Commission policy, subject matter listed above, not disposed of at the scheduled meeting, may be carried over to the agenda of the following meeting.

By order of the Commission.
Issued: August 31, 2011.
William R. Bishop,
Hearings and Meetings Coordinator.

[FR Doc. 2011-22633 Filed 8-31-11; 11:15 am]

BILLING CODE 7020-02-P